DEPARTMENT OF THE INTERIOR

Bureau of Land Management

[ES-956-1910-BK, Group 40, Illinois]

Eastern States: Filing of Plat of Survey

AGENCY: Bureau of Land Management, Interior.

ACTION: Notice of filing of plat of survey; Illinois.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: The survey was requested by the Army Corps of Engineers.

The land we surveyed is:

Fourth Principal Meridian, Illinois

T. 6 S., R. 7 W.

The plat of survey represents the dependent resurvey of the fractional township boundary, the subdivisional lines and the resurvey of the lock and dam no. 24 acquisition boundary in Sections 1, 2 and 12, Township 6 South, Range 7 West, of the Fourth Principle Meridian, in the State of Illinois, and was accepted August 12, 2008.

We will place a copy of the plat we described in the open files. It will be available to the public as a matter of information. If BLM receives a protest against this survey, as shown on the plat, prior to the date of official filing, we will stay the filing pending our consideration of the protest. We will not officially file the plat until the day after we accepted or dismissed all protests and they have become final, including decisions on appeals. Copies of the plat will be made available upon request and prepayment of the reproduction fees.

Dated: August 14, 2008.
Ronald J. Eberle,
Acting Chief Cadastral Surveyor.

[FR Doc. E8-19242 Filed 8-19-08; 8:45 am]

BILLING CODE 4310-GJ-P